COMMODITY FUTURES TRADING COMMISSION

Sunshine Act Meeting

AGENCY HOLDING THE MEETING: Commodity Futures Trading Commission.

Time and Date: 10:30 a.m., Wednesday, July 31, 2002.

Place: 1155 21st St., NW., Washington, DC, 9th Floor Conference Room.

Status: Closed.

Matters to be Considered: Contract Market Designation.

Contact Person for more information: Jean A. Webb, 202-418-5100.

Catherine D. Dixon,
Assistant Secretary of the Commission.

[FR Doc. 02-18795 Filed 7-22-02; 3:58 pm]

BILLING CODE 6351-01-M